DEPARTMENT OF HEALTH AND HUMAN SERVICES

Administration for Community Living

[OMB# 0985-0040]

Agency Information Collection Activities; Proposed Collection; Public Comment Request; State Health Insurance Assistance Program (SHIP) Data Performance Reports and Information Collection Tools

AGENCY: Administration for Community Living, HHS.

ACTION: Notice.

SUMMARY: The Administration for Community Living (ACL) is announcing an opportunity for the public to comment on the proposed collection of information listed above. Under the Paperwork Reduction Act of 1995 (the PRA), Federal agencies are required to publish a notice in the Federal Register concerning each proposed collection of information, including each proposed revision of an existing collection of information, and to allow 60 days for public comment in response to the notice.

This is a revision request for the Office of Management and Budget (OMB) approval for the modification and use of the Data Performance Reports and Information Collection tools for the State Health Insurance Assistance Program (SHIP) under OMB 0985-0040 that expires March 31, 2020.

DATES: Comments on the collection of information must be submitted electronically by 11:59 p.m. (EST) or postmarked by February 28, 2020.

ADDRESSES: Submit electronic comments on the collection of information to: Office of Healthcare Information and Counseling, OHIC@acl.hhs.gov, the collection of information to Administration for Community Living, Washington, DC 20201, Attention: Rebecca Kinney.

FOR FURTHER INFORMATION CONTACT: Rebecca Kinney, Office of Healthcare Information and Counseling (OHIC), Administration for Community Living, Washington, DC 20201, Phone: 202-795-7397, E-Mail: Rebecca.Kinney@acl.hhs.gov.

SUPPLEMENTARY INFORMATION: Under the PRA, Federal agencies must obtain approval from the Office of Management and Budget (OMB) for each collection of information they conduct or sponsor. “Collection of information” is defined as and includes agency requests or requirements that members of the public submit reports, keep records, or provide information to a third party. The PRA requires Federal agencies to provide a 60-day notice in the Federal Register concerning each proposed collection of information, including each proposed revision of an existing collection of information, before submitting the collection to OMB for approval. To comply with this requirement, ACL is publishing a notice of the proposed collection of information set forth in this document.

With respect to the following collection of information, ACL invites comments on our burden estimates or any other aspect of this collection of information, including:

(1) Whether the proposed collection of information is necessary for the proper performance of ACL's functions, including whether the information will have practical utility;

(2) the accuracy of ACL's estimate of the burden of the proposed collection of information, including the validity of the methodology and assumptions used to determine burden estimates;

(3) ways to enhance the quality, utility, and clarity of the information to be collected; and

(4) ways to minimize the burden of the collection of information on respondents, including the use of automated collection techniques when appropriate, and other forms of information technology.

The purpose of this data collection is to collect performance data from grantees, grantee team members, and partners. Congress requires this data collection for program monitoring and Government Performance Results Act (GPRA) purposes. This data collection allows the Administration for Community Living (ACL) and the Center for Innovation and Partnership (CIP) to communicate with Congress and the public on the State Health Insurance Assistance Program (SHIP), the Senior Medicare Patrol (SMP) program, the Medicare Improvements for Patients & Providers Act (MIPPA) program, and Aging and Disability Resource Centers (ADRC) activities. In addition to the SHIP Data Performance Reports and Information Collection (OMB #0985-0040), this revision incorporates the expired SMP Report collection (OMB#0985-0024) and the ADRC collection (OMB #0985-0062) into one tool.

The SHIP, SMP, MIPPA, and ADRC programs are located in each of the 50 states, the District of Columbia, Puerto Rico, Guam and the U.S. Virgin Islands. In order to ensure that grantees' report activity accurately and consistently it is imperative that these data collection tools remain active. The respondents for this data collection are grantees, grantee team members, and partners who meet with Medicare beneficiaries and older adults' in-group settings and in one-on-one sessions to educate them on the importance of being aware of Medicare fraud, error and abuse, and having the knowledge to protect the Medicare system.

ACL is proposing to combine these three collection tools to reduce burden on the grantees, grantee team members, and partners as many of the individuals working on these programs, collecting information, and reporting results are the same at the local level. Combining these tools will reduce the need for duplicate or triplicate reporting of activities in separate tools further reducing the time and effort in reporting outcomes and activities. In addition, this combination will allow for further clarification on when, where, and how activities are being conducted across these ACL programs further informing performance outcomes.

SHIP and MIPPA Data Collection (OMB #0985-0040)

Section 4360(f) of OBRA 1990 created the State Health Insurance Assistance Program (SHIP) and requires the Secretary to provide a series of reports to the U.S. Congress on the performance of the SHIP program annually. The law also requires ACL to report on the program's impact on beneficiaries and to obtain important feedback from beneficiaries.

This tool captures the information and data necessary for ACL to meet these Congressional requirements, as well as, capturing performance data on individual grantees providing ACL essential insight for monitoring and technical assistance purposes.

In addition, the Medicare Improvements for Patients and Providers Act (MIPPA), initially passed in 2008, provided targeted funding for the SHIPs, area agencies on aging (AAAs), and Aging and Disability Resource Centers (ADRC) to conduct enrollment assistance to Medicare beneficiaries for the Low Income Subsidy (LIS) and Medicare Savings Program (MSP). These activities, collectively known as the MIPPA Program, have been funded nearly annually through a series of funding or extenders bills. Most recently, the Consolidated Appropriations Act, 2018 extended funding for MIPPA to FY 2018 and FY 2019. This tool also collects performance and outcome data on the MIPPA Program providing ACL necessary information for monitoring and oversight.

SMP Data Collection (OMB #0985-0024)

Under Public Law 104-208, the Omnibus Consolidated Appropriations Act of 1997, Congress established the Senior Medicare Patrol Projects in order to further curb losses to the Medicare program. The Senate Committee noted that retired professionals, with appropriate training, could serve as educators and resources to assist Medicare beneficiaries and others to detect and report error, fraud and abuse. Among other requirements, it directed the Administration for Community Living to work with the Office of Inspector General (OIG) and the Government Accountability Office (GAO), to assess the performance of the program. The Administration for Community Living has worked with HHS/OIG to develop project-level performance measures.

The HHS/OIG has collected SMP performance data and issued SMP performance reports since 1997. The information from the current collection is reported by the OIG to Congress and the public. This information is also used by ACL as the primary method for monitoring the SMP Projects.

ADRC Data Collection (OMB #0985-0062)

The Aging and Disability Resource Center (ADRC) collects data for the No Wrong Door (NWD) System initiative. This tool is tethered to the ADRC program and seeks to connect fragmentation in the network and furthermore supports the need for early community-based interventions.

ACL uses this collection to support states in better coordinating and integrating their existing long-term services and supports (LTSS) access functions to develop a new interface that would make it easier for people to learn about and quickly access options that meet their needs. These programs operate throughout the United States and represent a nationally recognized network.

The proposed data collection tools may be found on the ACL website for review at https://www.acl.gov/about-acl/public-input.

Estimated Program Burden

ACL estimates the burden associated with this collection of information as follows: The burden hours are based on the number of projects for ACL grantees.

Type of respondent | Form/report name | Number of respondents | Number of responses per respondent | Average burden per response (in minutes) | Total burden hours
SMP Grantees | Media Outreach & Education | 216 | 46 | 15 | 2,484
SMP Grantees | Group Outreach & Education | 6,935 | 4 | 4 | 1,849.33
SMP Grantees | Individual Interaction | 6,935 | 41 | 5 | 23,694.58
SMP Grantees | Team Member | 216 | 31 | 5 | 558
SMP Grantees | OIG Report | 0 | 0 | 0 | 0
SMP Grantees | Time Spent Report | 0 | 0 | 0 | 0
SHIP/MIPPA Grantees | Media Outreach & Education | 3,750 | 15 | 15 | 14,062.5
SHIP/MIPPA Grantees | Group Outreach & Education | 3,750 | 15 | 4 | 3,750
SHIP/MIPPA Grantees | SHIP Team Member | 216 | 75 | 5 | 1,350
SHIP/MIPPA Grantees | Beneficiary Contact | 15,000 | 233 | 5 | 291,250
SHIP/MIPPA Grantees | Training | 216 | 75 | 15 | 1,620
SHIP/MIPPA Grantees | SHIP Performance Report | 0 | 0 | 0 | 0
SHIP/MIPPA Grantees | Resource Report | 0 | 0 | 0 | 0
SHIP/MIPPA Grantees | MIPPA Performance Report | 0 | 0 | 0 | 0
ADRC/NWD | NWD Management Tool data collection and entry—Local Level | 556 | 2 | 60 | 112
ADRC/NWD | NWD Management Tool data collection and entry—State Level | 996 | 2 | 240 | 7,968
ADRC/NWD | NWD Management Tool data collection and entry—Local Level | 400 | 12 | 30 | 2,400
SHIP/SMP/MIPPA | Summary Reports | 0 | 0 | 0 | 0
SHIP/MIPPA Grantees | Part D Enrollment outcomes Report | 0 | 0 | 0 | 0
Totals |  | 39,186 | 551 | 403 | 351,098

Dated: December 19, 2019.
Mary Lazare,
Principal Deputy Administrator.

[FR Doc. 2019-28105 Filed 12-27-19; 8:45 am]

BILLING CODE 4154-01-P